DEPARTMENT OF LABOR

Employment and Training Administration

[TA-W-80,076]

Nexergy, Inc., Including On-Site Leased Workers From Act-I Staffing, Kelly Services and Snider-Blake Personnel, Including Workers Whose Unemployment Insurance (UI) Wages Are Reported Through Western Services, Inc., Columbus, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 14, 2011, applicable to workers of Nexergy, Inc., including on-site leased workers from ACT-I Staffing, Snider-Black Personnel and Kelly Services, Columbus, Ohio. The workers are engaged in activities related to the production of battery packs, printed circuit boards and wire harnesses. The notice was published in the Federal Register on July 8, 2011 (76 FR 40401).

At the request of the State agency, the Department reviewed the certification for workers of the subject firm. New information shows that workers leased from Snider-Blake Personnel employed on-site at the Columbus, Ohio location of Nexergy, Inc. had their wages reported under a separate unemployment insurance (UI) tax account under the name Western Services, Inc.

Accordingly, the Department is amending this certification to properly reflect this matter.

The intent of the Department's certification is to include all workers of the subject firm who were adversely affected by actual/likely increase in imports following a shift abroad.

The amended notice applicable to TA-W-80,076 is hereby issued as follows:

All workers of Nexergy, Inc., including on-site leased workers from ACT-I Staffing, Kelly Services and Snider-Blake Personnel, including workers whose unemployment insurance (UI) wages are reported through Western Services, Inc., Columbus, Ohio, who became totally or partially separated from employment on or after March 28, 2010, through June 14, 2013, are eligible to apply for adjustment assistance under Section 223 of the Trade Act of 1974, and are also eligible to apply for alternative trade adjustment assistance under Section 246 of the Trade Act of 1974.

Signed at Washington, DC this 31st day of October 2011.
Michael W. Jaffe,
Certifying Officer, Office of Trade Adjustment Assistance.

[FR Doc. 2011-29395 Filed 11-14-11; 8:45 am]

BILLING CODE 4510-FN-P